DEPARTMENT OF THE INTERIOR

National Park Service

Notice of Inventory Completion for Native American Human Remains and Associated Funerary Objects in the Possession of the Oregon State Museum of Anthropology, Eugene, OR

AGENCY: National Park Service, Interior.

ACTION: Notice.

Notice is hereby given in accordance with provisions of the Native American Graves Protection and Repatriation Act (NAGPRA), 43 CFR 10.9, of the completion of an inventory of human remains and associated funerary objects in the possession of the Oregon State Museum of Anthropology, Eugene, OR.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of the human remains was made by Oregon State Museum of Anthropology professional staff in consultation with representatives of the Klamath Indian Tribe of Oregon; the Burns Paiute Tribe of the Burns Paiute Indian Colony of Oregon; the Confederated Tribes of the Warm Springs Reservation of Oregon; the Confederated Tribes of the Grande Ronde Community of Oregon; and the Confederated Tribes of the Siletz Reservation, Oregon.

In 1940, human remains representing one individual were donated to the Oregon State Museum of Anthropology by a person whose name is withheld. No known individual was identified. No associated funerary objects are present.

Museum records note that a former museum director, L. S. Cressman, attributed the remains to “Klamath Country.” It is unknown at the present time whether “Klamath Country” refers to the Klamath people or to a geographic locality.

Based on skeletal evidence, these remains are determined to be Native American. The reference in the museum records to “Klamath Country” suggests that the remains were removed from south-central Oregon or northeastern California. Historical documents, ethnographic sources, and oral history indicate that the Klamath-Modoc, Northern Paiute, and Shasta peoples have occupied these areas since precontact times.

Based on the above-mentioned information, officials of the Oregon State Museum of Anthropology have determined that, pursuant to 43 CFR 10.2 (d)(1), the human remains listed above represent the physical remains of one individual of Native American ancestry. Officials of the Oregon State Museum of Anthropology also have determined that, pursuant to 43 CFR 10.2 (e), there is a relationship of shared group identity that can be reasonably traced between these Native American human remains and the Klamath Indian Tribe of Oregon; the Burns Paiute Tribe of the Burns Paiute Indian Colony of Oregon; the Confederated Tribes of the Warm Springs Reservation of Oregon; the Confederated Tribes of the Grande Ronde Community of Oregon; and the Confederated Tribes of the Siletz Reservation, Oregon.

This notice has been sent to officials of the Klamath Indian Tribe of Oregon; the Burns Paiute Tribe of the Burns Paiute Indian Colony of Oregon; the Confederated Tribes of the Warm Springs Reservation of Oregon; the Confederated Tribes of the Grande Ronde Community of Oregon; and the Confederated Tribes of the Siletz Reservation, Oregon. Representatives of any other Indian tribe that believes itself to be culturally affiliated with these human remains should contact C. Melvin Aikins, Oregon State Museum of Anthropology, 1224 University of Oregon, Eugene, OR 97403-1224, telephone (541) 346-5115, before February 7, 2002. Repatriation of the human remains to the Klamath Indian Tribe of Oregon; the Burns Paiute Tribe of the Burns Paiute Indian Colony of Oregon; the Confederated Tribes of the Warm Springs Reservation of Oregon; the Confederated Tribes of the Grande Ronde Community of Oregon; and the Confederated Tribes of the Siletz Reservation, Oregon may begin after that date if no additional claimants come forward.

Dated: November 14, 2001.
Robert D. Stearns,
Manager, National NAGPRA Program

[FR Doc. 02-383 Filed 1-7-02; 8:45 am]

BILLING CODE 4310-70-S